POSTAL SERVICE

Promotional Rates for Global Express Guaranteed Service

AGENCY: Postal Service™.

ACTION: Notice of Promotional Rates.

SUMMARY: The Postal Service gives notice of promotional rates for Global Express Guaranteed® (GXG®) service consistent with Governors' Decision No. 12-02.

DATES: Effective date: April 29, 2013.

FOR FURTHER INFORMATION CONTACT: April Cosgrove at 202-268-3286.

SUPPLEMENTARY INFORMATION: On September 13, 2012, the Governors of the Postal Service (Governors) issued Decision No. 12-02, which stated that, “the Postal Service may offer one or more promotions in the form of a discount or rebate on certain GXG and EMI [Express Mail International®] items, during an established promotional program period, to mailers that comply with the eligibility requirements of the promotional program.” Subsequently, on November 8, 2012, the Postal Regulatory Commission (Commission) acknowledged that the Postal Service would be filing “potential promotions with the Commission for review and approval when they are developed,” and that such promotional rates might concern GXG, EMI, and/or Priority Mail International® (PMI). Commission Order No. 1536 at 5, 15. The Commission further noted that “Accordingly, appropriate language regarding these promotions will be added to the draft MCS once the Commission reviews and approves particular promotions.” Commission Order No. 1536 at 15. Consistent with Governors' Decision 12-02, the Postal Service intends to offer promotional rate incentives for GXG service for a limited time, beginning on April 29, 2013, and has furnished appropriate notice to the Commission. Information concerning eligibility for the promotional rates is available on the Postal Regulatory Commission's Web site, www.prc.gov by following the links to Docket No. CP2013-54.

Stanley F. Mires,
Attorney, Legal Policy & Legislative Advice.

[FR Doc. 2013-06906 Filed 3-25-13; 8:45 am]

BILLING CODE 7710-12-P